NATIONAL TRANSPORTATION SAFETY BOARD

Investigative Hearing

On January 7, 2013, about 1021 eastern standard time, smoke was discovered by cleaning personnel in the aft cabin of a Japan Airlines (JAL) Boeing 787-8, JA829J, which was parked at a gate at General Edward Lawrence Logan International Airport (BOS), Boston, Massachusetts. About the same time, a maintenance manager in the cockpit observed that the auxiliary power unit (APU)—the sole source of airplane power at the time—had automatically shut down. Shortly afterward, a mechanic opened the aft electronic equipment bay and found heavy smoke and fire coming from the front of the APU battery case. No passengers or crewmembers were aboard the airplane at the time, and none of the maintenance or cleaning personnel aboard the airplane was injured. Aircraft rescue and firefighting personnel responded, and one firefighter received minor injuries. The airplane had arrived from Narita International Airport, Narita, Japan, as a regularly scheduled passenger flight operated as JAL flight 008 and conducted under the provisions of 14 Code of Federal Regulations Part 129.

The investigative hearing is being held to discuss the Boeing 787 battery and battery charger system. Areas that will be discussed include the selection and certification requirements, the battery system design, development, verification and validation processes and the FAA finding of compliance. The goals of this hearing will be to gather additional information on the selection of the lithium ion (Li-ion) battery technology and how this new technology was evaluated, the role of the prime contractor and subcontractors, development of the battery system safety assessment, certification process structure and findings of compliance for the Boeing 787 Li-ion battery system.

Parties to the hearing include the Federal Aviation Administration, The Boeing Company, Thales Avionics and GS Yuasa.

Order of Proceedings

1. Opening Statement by the Chairman of the Board of Inquiry.

2. Introduction of the Board of Inquiry and Technical Panel.

3. Introduction of the Parties to the Hearing.

4. Introduction of Exhibits by Hearing Officer.

5. Overview of the incident and the investigation by Investigator-In-Charge.

6. Calling of Witnesses by Hearing Officer.

7. Closing Statement by the Chairman of the Board of Inquiry.

Additional information can be found on the web at: http://www.ntsb.gov/news/2013/130402.html.

The accident docket is DCA13IA037.

The Investigative Hearing will be held in the NTSB Board Room and Conference Center, located at 429 L'Enfant Plaza E., SW., Washington, DC, Tuesday, April 23 and Wednesday, April 24th, 2013 at 9:00 a.m. The public can view the hearing in person or by live webcast at www.ntsb.gov. Webcast archives are generally available by the end of the next day following the hearing, and webcasts are archived for a period of 3 months from after the date of the event.

Individuals requesting specific accommodations should contact Ms. Rochelle Hall at (202) 314-6305 or by email at Rochelle.Hall@ntsb.gov by Friday, April 19, 2013.

NTSB Media Contact: Mr. Eric Weiss—eric.weiss@ntsb.gov.

NTSB Investigative Hearing Officer: Mr. David Helson—david.helson@ntsb.gov.

Dated: April 5, 2013.
Candi R. Bing,
Federal Register Liaison Officer.

[FR Doc. 2013-08407 Filed 4-10-13; 8:45 am]

BILLING CODE 7533-01-P